SMALL BUSINESS ADMINISTRATION

[License No. 03/03-0249]

Argosy Investment Partners IV, L.P.; Notice Seeking Exemption Under Section 312 of the Small Business Investment Act, Conflicts of Interest

Notice is hereby given that Argosy Investment Partners IV, L.P., 950 West Valley Road, Suite 2900, Wayne, PA 19087, a Federal Licensee under the Small Business Investment Act of 1958, as amended (“the Act”), in connection with the financing of a small business concern, has sought an exemption under Section 312 of the Act and 13 CFR 107.730, Financings which Constitute Conflicts of Interest of Code of Federal Regulations. Argosy Investment Partners IV, L.P. proposes to provide financing to Olympia Chimney Supply Holdings, LLC, 450 Centerpoint Blvd. Pittston, PA, 18640.

The financing is brought within the purview of 13 CFR 107.730(a) and (d) of the Code of Federal Regulations because Odyssey Capital Group, L.P., an Associate of Argosy Investment Partners IV, L.P., owns more than ten percent of Olympia Chimney Supply Holdings, LLC, and therefore this transaction is considered a financing of an Associate requiring a prior written exemption.

Notice is hereby given that any interested person may submit written comments on the transaction, within fifteen days of the date of this publication, to the Associate Administrator for Investment and Innovation, U.S. Small Business Administration, 409 Third Street SW, Washington, DC 20416.

Paul Salgado,
Director, Investment Portfolio Management, Office of Investment and Innovation.

[FR Doc. 2025-10159 Filed 6-3-25; 8:45 am]

BILLING CODE P